DEPARTMENT OF TRANSPORTATION

Federal Highway Administration

Environmental Assessment; Finding of No Significant Impact (FONSI): George Washington Memorial Parkway, Arlington, VA and District of Columbia

AGENCY: Federal Highway Administration (FHWA), Eastern Federal Lands Highway Division, DOT.

SUMMARY: The FHWA, in cooperation with the National Park Service (NPS), is issuing a Finding of No Significant Impact for the replacement of an existing bridge and related vehicular and pedestrian/bicycle safety improvements on the George Washington Memorial Parkway located in Arlington County, VA and the District of Columbia.

FOR FURTHER INFORMATION: Jack Van Dop, Technical Specialist, Federal Highway Administration, 21400 Ridgetop Circle, Sterling, VA 20166, Telephone: (703) 404-6282, e-mail: jack.j.vandop@fhwa.dot.gov.

SUPPLEMENTARY INFORMATION: The FHWA, in cooperation with the NPS, is issuing a FONSI for the preferred alternative as identified in the Environmental Assessment (EA) for Roadway and Trail Safety Improvements for the George Washington Memorial Parkway. This project is located in Arlington County, Virginia and Washington, DC and includes replacement of the existing Parkway Boundary Channel Bridge (also known as the Humpback Bridge), modifications to the Parkway's vehicular entrance to Columbia Island, and improvements to the existing trail network. The purpose of the EA is to record the selection of a preferred alternative and its potential impacts on the environment. The determination as to whether the selected alternative (undertaking) will have (or not have—FONSI) a significant impact on the environment has been made pursuant to the Council on Environmental Quality's regulations (40 CFR 1500) for implementing the National Environmental Policy Act.

The FONSI can be viewed at http://www.efl.fhwa.dot.gov/planning/nepa/ and http://www.nps.gov/gwmp/.

Authority: 23 U.S.C. 315; 49 CFR 1.48.

Jack Van Dop,
Technical Specialist.

[FR Doc. 04-20777 Filed 9-14-04; 8:45 am]

BILLING CODE 4910-22-P